DEPARTMENT OF ENERGY

Federal Energy Regulatory Commission

[Docket No. CP01-81-000]

Chandeleur Gas Pipe Line Company; Notice of Application

February 9, 2001.

Take notice that on February 5, 2001, Chandeleur Pipe Line Company (Chandeleur), P.O. Box 4879, Houston, Texas 77210-4879, filed in Docket No. CP01-81-000 an application pursuant to Section 7(c) of the Natural Gas Act for a certificate of public convenience and necessity authorizing an increase in total system capacity, all as more fully set forth in the application on file with the Commission and open to public inspection. This filing may be viewed on the web at http://www.ferc.fed.us/online/htm (call 202-208-2222 for assistance).

Chandeleur proposes to increase the maximum capacity of its system from 280,000 Mcf of natural gas per day to 321,000 Mcf per day. It is stated that the proposed increase is needed to more closely match current production profiles with delivery point capacities and to reflect a planned interconnection with Destin Pipeline Company, L.L.C. (Destin). It is asserted that the interconnection is being installed on the refinery grounds of Chandeleur's affiliate, Chevron Products Company, a division of Chevron USA Inc., in Pascagoula, Mississippi, by Chandeleur and Destin under their respective blanket certificates. It is further asserted that the increase in capacity can be accomplished without an increase in operating pressure. It is explained that Chandeleur has conducted an open season for the new capacity and is in the process of completing precedent agreements with shippers for the new capacity.

Any questions regarding the application should be directed to Ruth A. Bosek, Bosek Law Firm, at (202) 326-5256, 1090 Vermont Ave., NW., Suite 800, Washington, DC 20005.

Any person desiring to be heard or to make protest with reference to said application should on or before February 20, 2001, file with the Federal Energy Regulatory Commission, 888 First Street, NE., Washington, DC 20426, a motion to intervene or a protest in accordance with the requirements of the Commission's Rules of Practice and Procedure (18 CFR 385.214 or 385.211) and the Regulations under the Natural Gas Act (18 CFR 175.10). All protests filed with the Commission will be considered by it in determining the appropriate action to be taken but will not serve to make the protestants parties to the proceeding. Any person wishing to become a party to a proceeding or to participate as a party in any hearing therein must file a motion to intervene in accordance with the Commission's Rules. Comments and protests may be filed electronically in lieu of paper. See 18 CFR 385.2001(a)(1)(iii) and the instructions on the Commission's website at http://ferc.fed.us/efi/doorbell.htm.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Chandeleur to appear or be represented at the hearing.

Linwood A. Watson, Jr.,
Acting Secretary.

[FR Doc. 01-3808 Filed 2-14-01; 8:45 am]

BILLING CODE 6717-01-M